FEDERAL MARITIME COMMISSION

Agency Information Collection Activities: Submission for OMB Review; Comment Request

AGENCY: Federal Maritime Commission.

ACTION: Notice.

SUMMARY: The Federal Maritime Commission (Commission) is giving public notice that the agency has submitted to the Office of Management and Budget (OMB) for approval the continuing information collections described in this notice. The public is invited to comment on the proposed information collections pursuant to the Paperwork Reduction Act of 1995.

DATES: Written comments must be submitted at the addresses below on or before April 2, 2021.

ADDRESSES: Comments should be addressed to:

Office of Information and Regulatory Affairs, Office of Management and Budget, Attention: Shannon Joyce, Desk Officer for Federal Maritime Commission, OIRA_Submission@OMB.EOP.GOV

and to:

Karen V. Gregory, Managing Director,

Office of the Managing Director,

Federal Maritime Commission,

OMD@fmc.gov

Please send separate comments for each specific information collection listed below, and reference the information collection's title and OMB number in your comments.

FOR FURTHER INFORMATION CONTACT: Copies of the submission(s) may be obtained by contacting Donna Lee at OMD@fmc.gov.

SUPPLEMENTARY INFORMATION:

Request for Comments

Pursuant to the Paperwork Reduction Act of 1995 (Pub. L. 104-13), the Commission invites the general public and other Federal agencies to comment on proposed information collections. On October 13, 2020, the Commission published a notice and request for comments in the Federal Register (85 FR 64467) regarding the agency's request for continued approval from OMB for information collections as required by the Paperwork Reduction Act of 1995. The Commission received no comments on any of the requests for extensions of OMB clearance. The Commission has submitted the described information collections to OMB for approval.

In response to this notice, comments and suggestions should address one or more of the following points: (1) The necessity and utility of the proposed information collection for the proper performance of the agency's functions; (2) the accuracy of the estimated burden; (3) ways to enhance the quality, utility, and clarity of the information to be collected; and (4) the use of automated collection techniques or other forms of information technology to minimize the information collection burden.

Information Collections Open for Comment

I. Title: 46 CFR part 525—Marine Terminal Operator Schedules and Related Form FMC-1.

OMB Approval Number: 3072-0061 (Expires January 31, 2021).

Abstract: Section 8(f) of the Shipping Act, 46 U.S.C. 40501(f), provides that a marine terminal operator (MTO) may make available to the public a schedule of its rates, regulations, and practices, including limitations of liability for cargo loss or damage, pertaining to receiving, delivering, handling, or storing property at its marine terminal. The Commission's rules governing MTO schedules are set forth at 46 CFR part 525.

Current Actions: There are no changes to this information collection, and it is being submitted for extension purposes only.

Type of Review: Reinstatement.

Needs and Uses: The Commission uses information obtained from Form FMC-1 to determine the organization name, organization number, home office address, name and telephone number of the firm's representatives and the location of MTO schedules of rates, regulations and practices, and publisher, should the MTOs determine to make their schedules available to the public, as set forth in section 8(f) of the Shipping Act.

Frequency: This information is collected prior to an MTO's commencement of its marine terminal operations.

Type of Respondents: Persons operating as MTOs.

Number of Annual Respondents: The Commission estimates the respondent universe at 20, of which 10 opt to make their schedules available to the public.

Estimated Time per Response: The time per response for completing Form FMC-1 averages 0.5 person-hours, and approximately 5 person-hours for related MTO schedules.

Total Annual Burden: The Commission estimates the total annual person-hour burden at 60 person-hours.

II. Title: 46 CFR part 520—Carrier Automated Tariffs and Related Form FMC-1.

OMB Approval Number: 3072-0064 (Expires February 28, 2021).

Abstract: Except with respect to certain specified commodities, section 8(a) of the Shipping Act, 46 U.S.C. 40501(a)-(c), requires that each common carrier and conference keep open to public inspection, in an automated tariff system, tariffs showing its rates, charges, classifications, rules, and practices between all ports and points on its own route and on any through transportation route that has been established. The Commission is responsible for reviewing the accessibility and accuracy of automated tariff systems, in accordance with its regulations set forth at 46 CFR part 520.

Current Actions: There are no changes to this information collection, and it is being submitted for extension purposes only.

Type of Review: Extension.

Needs and Uses: The Commission uses information obtained from Form FMC-1 to ascertain the location of common carrier and conference tariff publications, and to access their provisions regarding rules, rates, charges, and practices.

Frequency: This information is collected when common carriers or conferences publish tariffs.

Type of Respondents: Persons operating or desiring to operate as common carriers or conferences.

Number of Annual Respondents: The Commission estimates there are 6,042 Carrier Automated Tariffs. It is estimated that the number of annual respondents will be 1,500.

Estimated Time per Response: The time per response ranges from 0.1 to 2 person-hours for reporting and recordkeeping requirements contained in the rules, and 0.5 person-hours for completing Form FMC-1.

Total Annual Burden: The Commission estimates the total annual person-hour burden at 2,295 person-hours.

Rachel Dickon,
Secretary.

[FR Doc. 2021-04378 Filed 3-2-21; 8:45 am]

BILLING CODE 6730-02-P